DEPARTMENT OF AGRICULTURE

Forest Service

Northwest Sacramento Provincial Advisory Committee (PAC)

AGENCY: Forest Service, USDA.

ACTION: Notice of meeting.

SUMMARY: The Northwest Sacramento Provincial Advisory Committee (PAC) will meet on Friday, July 14, 2000, at the French Gulch Hotel, French Gulch, California. The meeting will start at 9 a.m. and adjourn at 3 p.m. topics for the meeting are: (1) An update on the Northwest Forest Plan Implementation; (2) update on the Clear Creek/Resource Conservation District proposal; (3) discussion on the French Gulch community fuels area; and (4) public comment periods. All PAC meetings are open to the public. Interested citizens are encouraged to attend.

FOR FURTHER INFORMATION CONTACT: Connie Hendryx, USDA, Klamath National Forest, 11263 N. Highway 3, Fort Jones, California 96032; telephone 530-468-1281; TDD (530) 468-2783; email: chendryx@fs.fed.us.

Dated: June 22, 2000.
Constance J. Hendryx,
PAC Support Staff.

[FR Doc. 00-16278 Filed 6-27-00; 8:45 am]

BILLING CODE 3410-11-M